Title 3—

The President

Presidential Determination No. 2004-35 of June 3, 2004

Designation of the Kingdom of Morocco as a Major Non-NATO Ally

Memorandum for the Secretary of State

Consistent with the authority vested in me by section 517 of the Foreign Assistance Act of 1961, as amended (the “Act”), I hereby designate the Kingdom of Morocco as a Major Non-NATO Ally of the United States for the purposes of the Act and the Arms Export Control Act.

You are authorized and directed to publish this determination in the Federal Register.

B

THE WHITE HOUSE,

Washington, June 3, 2004.

[FR Doc. 04-13951

Filed 6-17-04; 8:45 am]

Billing code 4710-10-P